DEPARTMENT OF THE INTERIOR

Fish and Wildlife Service

Notice of Receipt of an Application To Renew an Incidental Take Permit by O.C. Mendes for Residential Development in Florida

AGENCY: Fish and Wildlife Service, Interior.

ACTION: Notice.

The Permittee, O.C. Mendes, seeks renewal of an incidental take permit (ITP) originally issued August, 1994 by the Fish and Wildlife Service (Service) pursuant to section 10(a)(1)(B) of the Endangered Species Act of 1973, as amended (Act). The proposed take would be incidental to otherwise lawful activities, including residential development on private land owned by the Permittee. The Permittee has implemented the provisions of the previously approved Habitat Conservation Plan (HCP), as required by section 10(a)(2)(B) of the Act, to minimize and mitigate for the incidental take of the Federally threatened Florida scrub-jay (Aphelocoma coerulescens).

The subject permit authorized take of one family of Florida scrub-jays on approximately 5 acres of the Permittee's land in Brevard County, Florida. The Permittee has not initiated land clearing in preparation for construction since permit issuance. Due to natural forest succession and a lack of wildfire or controlled burning since 1994, the property has diminished in value for Florida scrub-jays and they currently do not occur there. The Permittee wishes to retain incidental take authority due to the uncertainty of scrub-jays reoccupying the site. A more detailed description of the mitigation and minimization measures to address the effects of the Project to the Florida scrub-jay is provided in the Permittee's HCP, the Service's Environmental Assessment (EA), and in the SUPPLEMENTARY INFORMATION section below.

The Service has determined that the previously approved Environmental Assessment (EA) and Habitat Conservation Plan for Incidental Take do not need amendment. Copies of the EA, HCP, and previously issued permit may be obtained by making a request to the Regional Office (see ADDRESSES). Requests must be in writing to be processed. The Service has determined that the Permittee's request for renewal will individually and cumulatively have a minor or negligible effect on the species covered in the HCP. Therefore, renewal of the ITP is a “low effect” project and would qualify as a categorical exclusion under the National Environmental Policy Act (NEPA), as provided by the Department of Interior Manual (516 DM2, Appendix 1 and 516 DM 6, Appendix 1).

The Service specifically requests information, views, and opinions from the public via this Notice on the federal action, including the identification of any other aspects of the human environment not already identified in the Service's EA. Further, the Service specifically solicits information regarding the adequacy of the HCP as measured against the Service's ITP issuance criteria found in 50 CFR parts 13 and 17.

If you wish to comment, you may submit comments by any one of several methods. Please reference permit number TE791244-2 in such comments. You may mail comments to the Service's Regional Office (see ADDRESSES). You may also comment via the internet to “david_dell@fws.gov”. Please submit comments over the internet as an ASCII file avoiding the use of special characters and any form of encryption. Please also include your name and return address in your internet message. If you do not receive a confirmation from the Service that we have received your internet message, contact us directly at either telephone number listed below (see FURTHER INFORMATION). Finally, you may hand deliver comments to either Service office listed below (see ADDRESSES). Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. We will not; however, consider anonymous comments. We will make all submissions from organizations or businesses, and from individuals identifying themselves as representatives or officials of organizations or businesses, available for public inspection in their entirety.

DATES: Written comments on the ITP application, draft EA, and HCP should be sent to the Service's Regional Office (see ADDRESSES) and should be received on or before May 7, 2001.

ADDRESSES: Persons wishing to review the application, HCP, and EA may obtain a copy by writing the Service's Southeast Regional Office, Atlanta, Georgia. Documents will also be available for public inspection by appointment during normal business hours at the Regional Office, 1875 Century Boulevard, Suite 200, Atlanta, Georgia 30345 (Attn: Endangered Species Permits), or Field Supervisor, U.S. Fish and Wildlife Service, Ecological Services Field Office, 6620 Southpoint Drive, South, Suite 310, Jacksonville, Florida 32216-0192. Written data or comments concerning the ITP renewal or HCP should be submitted to the Regional Office. Please reference permit number TE791244-2 in requests of the documents discussed herein.

FOR FURTHER INFORMATION CONTACT: Mr. David Dell, Regional HCP Coordinator, (see ADDRESSES above), telephone: 404/679-7313, facsimile: 404/679-7081; or Ms. Jane Monaghan, Fish and Wildlife Biologist, Jacksonville Field Office, Florida (see ADDRESSES above), telephone: 904/232-2580.

SUPPLEMENTARY INFORMATION: The Florida scrub-jay (scrub-jay) is geographically isolated from other subspecies of scrub-jays found in Mexico and the western United States. The scrub-jay is found exclusively in peninsular Florida and is restricted to xeric uplands (predominately in oak-dominated scrub). Increasing urban and agricultural development have resulted in habitat loss and fragmentation which has adversely affected the distribution and numbers of scrub-jays. The total estimated population is between 7,000 and 11,000 individuals.

The decline in the number and distribution of scrub-jays in southwestern Florida has been exacerbated by tremendous urban growth in the past 50 years. Much of the historic commercial and residential development has occurred on the dry soils which previously supported scrub-jay habitat. Based on existing soils data, much of the historic and current scrub-jay habitat of coastal southwest Florida occurs proximal to the current shoreline and larger river basins. Much of this area of Florida was settled early because few wetlands restricted urban and agricultural development. Due to the effects of urban and agricultural development over the past 100 years, much of the remaining scrub-jay habitat is now relatively small and isolated. What remains is largely degraded due to the exclusion of fire which is needed to maintain xeric uplands in conditions suitable for scrub-jays.

The scrub-jay survey provided by the Permittee during project planning indicated that one family used the site and surrounding suitable habitat areas. The Applicant proposed to impact a portion of the territories of this family. Initial construction of roads and utilities and subsequent development of individual home sites was expected to result in death of, or injury to, scrub-jays incidental to the carrying out of these otherwise lawful activities. Habitat alteration associated with property development may have reduced the availability of feeding, shelter, and nesting habitat.

To minimize and mitigate the impacts of the loss of 1.35 acres of scrub-jay habitat, the Permittee purchased 3.0 acres of scrub habitat known to support the scrub-jay, deeded the property to Brevard County, and provided a management endowment of $3,000 to ensure management of the site in perpetuity. Other measures proposed by the Applicant include siting of individual building footprints to minimize additional scrub habitat alteration, and protection of active nests, if discovered, during the nesting season. No additional mitigation measures are proposed for the renewal.

Under section 9 of the Act and its implementing regulations, “taking” of endangered and threatened wildlife is prohibited. However, the Service, under limited circumstances, may issue permits to take such wildlife if the taking is incidental to and not the purpose of otherwise lawful activities. The Permittee has implemented an HCP as required by previous issuance of the incidental take permit application.

As stated above, the Service has made a preliminary determination that renewal of the ITP is not a major Federal action significantly affecting the quality of the human environment within the meaning of section 102(2)(C) of NEPA. This preliminary information may be revised due to public comment received in response to this notice and is based on information contained in the EA and HCP.

The Service will also evaluate whether the renewal of the section 10(a)(1)(B) ITP complies with section 7 of the Act by conducting an intra-Service section 7 consultation. The results of this consultation, in combination with the above findings, will be used in the final analysis to determine whether or not to reissue the ITP.

Dated: March 27, 2001.
H. Dale Hall,
Acting Regional Director.

[FR Doc. 01-8415 Filed 4-4-01; 8:45 am]

BILLING CODE 4310-55-P